DEPARTMENT OF HEALTH AND HUMAN SERVICES

Food and Drug Administration

[Docket No. FDA-2014-N-0894]

2014 Scientific Meeting of the National Antimicrobial Resistance Monitoring System; Public Meeting; Request for Comments

AGENCY: Food and Drug Administration, HHS.

ACTION: Notice of public meeting; request for comments.

SUMMARY: The Food and Drug Administration (FDA) is announcing a public meeting entitled “2014 Scientific Meeting of the National Antimicrobial Resistance Monitoring System.” The purpose of the meeting is to discuss progress made in achieving the goals of the National Antimicrobial Resistance Monitoring System (NARMS) Strategic Plan: 2012-2016.

Dates And Time: The public meeting will be held on August 12 and 13, 2014, from 8 a.m. to 5 p.m.

ADDRESSES: Location: The public meeting will be held at the FDA White Oak Campus, 10903 New Hampshire Ave., Building 31, Great Room (rm. 1503A), Silver Spring, MD 20993-0002. Please note that visitors to the White Oak Campus must enter through Building 1. The White Oak Campus location is a Federal facility with security procedures. For parking and security information, please refer to http://www.fda.gov/AboutFDA/WorkingatFDA/BuildingsandFacilities/WhiteOakCampusInformation/ucm241740.htm.

FOR FURTHER INFORMATION CONTACT: Laura Bradbard, Center for Veterinary Medicine (HFV-12), Food and Drug Administration, 7519 Standish Pl., Rockville, MD 20855, 240-276-9109, FAX: 240-276-9115, laura.bradbard@fda.hhs.gov.

SUPPLEMENTARY INFORMATION: NARMS periodically conducts public meetings to inform stakeholders of NARMS activities and receive comments on ways to improve. The last two public NARMS meetings (held in 2010 and 2011) focused on recommendations made by the FDA Science Board Advisory Subcommittee in 2007. These meetings dealt with enhancing international partnerships, and improving NARMS sampling. Since then, NARMS created the 2012-2016 Strategic Plan that addressed all of the Science Board's recommendations (http://www.fda.gov/downloads/AnimalVeterinary/SafetyHealth/AntimicrobialResistance/NationalAntimicrobialResistanceMonitoringSystem/UCM236283.pdf). A number of strategic planning goals already have been achieved and several of the objectives outlined in the plan are ongoing. The purpose of this meeting will be to provide updates on progress of the NARMS 2012-2016 strategic plan, discuss possible future activities, and receive comments for the official record. A number of items will be discussed including comparisons of new and old slaughter sampling methods, the role of NARMS in foodborne outbreaks, results of interagency research projects using advanced detection methods, and how these scientific advances impact FDA decisionmaking.

Registration and Requests for Oral Presentations: Interested persons may make oral presentations on the topic of the discussion of the meeting. Oral presentations from the public during the open public comment period will be scheduled between approximately 3:50 p.m. and 4:50 p.m. on August 13, 2014. Those desiring to make oral presentations should notify the contact person by July 29, 2014, and submit a brief statement of the general nature of information they wish to present. In an effort to accommodate all who desire to speak, time allotted for each presentation may be limited. The contact person will inform each speaker of their schedule prior to the meeting.

Registration is required for the meeting. Please send registration information (including name, title, organization, address, and telephone and fax numbers) by email to Laura Bradbard (see FOR FURTHER INFORMATION CONTACT) by July 29, 2014. There is no fee to register for the public meeting, and registration will be on a first-come, first-served basis.

If you need special accommodations due to a disability, please contact Laura Bradbard (see FOR FURTHER INFORMATION CONTACT) at least 7 days in advance.

Comments: Regardless of attendance at the public meeting, interested persons may submit either electronic or written comments regarding the topic to be discussed at the meeting. Submit electronic comments to http://www.regulations.gov. Submit written comments to the Division of Dockets Management (HFA-305), Food and Drug Administration, 5630 Fishers Lane, rm. 1061, Rockville, MD 20852. It is only necessary to send one set of comments. Identify comments with the docket number found in brackets in the heading of this document. Received comments may be seen in the Division of Dockets Management between 9 a.m. and 4 p.m., Monday through Friday. The docket will remain open for written or electronic comments for 30 days following the meeting.

Agenda: The meeting will address monitoring and research for NARMS. The final agenda for the public meeting will be made available on the Agency's Web site at http://www.fda.gov/AnimalVeterinary/SafetyHealth/AntimicrobialResistance/NationalAntimicrobialResistanceMonitoringSystem/ucm059135.htm and will be posted to the docket at http://www.regulations.gov no later than 2 weeks prior to the meeting.

Transcripts: FDA will prepare a meeting transcript and make it available on the Agency's Web site (see Agenda) after the meeting. FDA anticipates that transcripts will be available approximately 60 business days after the meeting. The transcript will be available for public examination at the Division of Dockets Management (HFA-305), Food and Drug Administration, 5630 Fishers Lane, rm. 1061, Rockville, MD 20852, between 9 a.m. and 4 p.m., Monday through Friday. A transcript will also be available in either hardcopy or on CD-ROM after submission of a Freedom of Information request. Written requests are to be sent to Division of Freedom of Information (ELEM-1029), Food and Drug Administration, 12420 Parklawn Dr., Element Bldg., Rockville, MD 20857.

Dated: July 7, 2014.
Leslie Kux,
Assistant Commissioner for Policy.

[FR Doc. 2014-16207 Filed 7-10-14; 8:45 am]

BILLING CODE 4164-01-P